DEPARTMENT OF THE INTERIOR

Bureau of Land Management

43 CFR Part 3500

[Docket No. BLM-2025-0004; A2407-014-004-065516, #O2509-014-004-125222]

RIN 1004-AF18

Rescission of Regulations Regarding Leasing of Solid Minerals Other Than Coal and Oil Shale

AGENCY: Bureau of Land Management, Interior.

ACTION: Direct final rule; response to comments.

SUMMARY: Due to the receipt of a substantive comment on the direct final rule (DFR) rescinding portions of the Bureau of Land Management's (BLM) regulations that address the Leasing of Solid Minerals Other Than Coal and Oil Shale, the Department of the Interior, through the BLM, is issuing a new final rule that responds to the comment.

DATES: The effective date of September 15, 2025, for the direct final rule published on July 17, 2025 (90 FR 33310) is confirmed. This final rule is effective on March 23, 2026.

FOR FURTHER INFORMATION CONTACT: Indra Dahal, Deputy Division Chief, Division of Solid Minerals, telephone: 202-742-0601; email: idahal@blm.gov. For technical or regulatory questions, contact Sabry Hanna, Solid Leasable Other Than Coal Program Lead, telephone: 571-458-6644; email: shanna@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: On July 17, 2025, the BLM published a DFR amending the Code of Federal Regulations by rescinding the statewide acreage limitation for hardrock mineral permits and leases at 43 CFR 3503.37(f) and the provisions for hardrock mineral development contracts at 43 CFR subpart 3517 (90 FR 33310). The BLM stated in the DFR that if significant adverse comments were received by August 18, 2025, the BLM would withdraw the DFR or issue a new final rule that responds to the comments. The BLM received one substantive comment on August 18, 2025. The BLM elects to issue a new final rule that responds to the comment.

In issuing the DFR, the BLM determined that paragraph (f) of 43 CFR 3503.37 should be revised to remove the maximum acreage of hardrock permits and leases in any one State because the acreage limitation for hardrock permits and leases is not mandated by statute and is unnecessary. The BLM also determined that 43 CFR subpart 3517, consisting of §§ 3517.10 through 3517.16, should be rescinded because the purpose of those regulations was to provide an exemption from the statewide acreage limitation for hardrock permits and leases. With the removal of the statewide acreage limitation for hardrock permits and leases in paragraph (f) of 43 CFR 3503.37, the regulations in 43 CFR subpart 3517 are obsolete and no longer needed.

On August 18, 2025, the BLM received a comment from Northeastern Minnesotans for Wilderness, The Wilderness Society, Center for Biological Diversity, and Earthworks opposing the rescission of 43 CFR 3503.37(f) and 43 CFR subpart 3715.

Response to General Assertions

The commenters raised concerns that the DFR will result in large projects and degrade natural resources. Those concerns, however, are speculative and the commenters do not explain how the DFR will lead to those results. The BLM notes that the statewide acreage limitation for hardrock permits and leases did not limit the overall amount of acreage that could be included in hardrock permits or leases in any one State by any number of entities, but rather limited the amount of acreage that any one entity could hold within a State. The purpose of the limitation was not related to any question of degradation of natural resources but was to prevent any one entity from monopolizing access to the mineral resources in a particular State despite the lack of any statutory mandate for the regulatory acreage limitation.

The BLM maintains that it has the authority to amend and rescind regulations pursuant to changing policy so long as such changes are permissible under applicable statutory authority. The statutes governing hardrock permits and leases do not contain any provisions limiting the amount of acreage that any one entity may hold in permits and leases in a State. The inclusion or removal of acreage limitations for hardrock permits and leases in the regulations is therefore within the BLM's discretion. Here, rescinding the statewide acreage limitation for hardrock permits and leases will ease the regulatory burden by allowing any one entity to hold as permits and leases the amount of land needed for hardrock mineral operations without needing to enter into development contracts or processing and milling arrangements under 43 CFR subpart 3517.

Response to Statutory Compliance Assertions

The commenters raise concerns that the DFR will make it more difficult for the BLM and the Forest Service to comply with the National Environmental Policy Act (NEPA), the Federal Water Pollution Control Act, and the Endangered Species Act. In response, the BLM notes that the commenters do not explain how the rescission of the statewide acreage limitation relates to compliance with the listed statutes or explain why the acreage limitation was necessary to ensure compliance with those statutes. The BLM maintains that the DFR is not related to and will have no impact on the BLM's ability to comply with applicable statutes. The DFR does not authorize any mining activities. The BLM will continue to analyze any prospecting permit applications or proposals to lease or develop hardrock minerals under 43 CFR part 3500, as required by those environmental statutes, on a case-by-case basis.

Response to Procedural Comments

The commenters raised procedural concerns for the BLM's consideration. In response, the BLM notes that the Administrative Procedure Act (APA) requires that agencies provide all interested persons with fair notice and an opportunity to comment on the rulemaking. See 5 U.S.C. 553(b) and (c). The July 2025 DFR provided the public with notice of the BLM's actions to rescind the statewide acreage limitation for hardrock permits and leases and to rescind the provisions providing for development contracts. See 90 FR 33312-13. The BLM also requested comments on the July 2025 DFR. See 90 FR 33310. Thus, the BLM provided interested persons with notice and an opportunity to comment as required by the APA. As a result, there was no need for a good cause exemption from notice-and-comment rulemaking under 5 U.S.C. 553(b).

The commenters raised concerns that the DFR does not comply with NEPA. In response, the BLM maintains that the commenters' alleged effects on the environment are speculative. The DFR is merely administrative and in and of itself does not cause any environmental effects. Therefore, the DFR does not constitute a major Federal action significantly affecting the quality of the human environment. Moreover, the BLM will conduct environmental analysis under NEPA before approving any prospecting permit application or proposal to lease or develop hardrock minerals under 43 CFR part 3500.

Conclusion

For the reasons stated above, the BLM is not withdrawing the July 2025 DFR.

Lanny E. Erdos,
Director, Office of Surface Mining, Reclamation, and Enforcement Exercising Authority of the Assistant Secretary—Land and Minerals Management.

[FR Doc. 2026-03283 Filed 2-18-26; 8:45 am]

BILLING CODE 4331-29-P